DEPARTMENT OF HOMELAND SECURITY

Federal Emergency Management Agency

[Docket ID FEMA-2012-0008; OMB No. 1660-0069]

Agency Information Collection Activities: Proposed Collection; Comment Request, National Fire Incident Reporting System (NFIRS) v5.0

AGENCY: Federal Emergency Management Agency, DHS.

ACTION: Notice.

SUMMARY: The Federal Emergency Management Agency, as part of its continuing effort to reduce paperwork and respondent burden, invites the general public and other Federal agencies to take this opportunity to comment on a proposed revision of a currently approved information collection. In accordance with the Paperwork Reduction Act of 1995, this notice seeks comments concerning National Fire Incident Reporting System (NFIRS) v5.0. The program provides a well established mechanism, using standardized reporting methods, to collect and analyze fire incident data at the Federal, State, and local levels with a myriad of life and property saving uses and benefits.

DATES: Comments must be submitted on or before April 10, 2012.

ADDRESSES: To avoid duplicate submissions to the docket, please use only one of the following means to submit comments:

(1) Online. Submit comments at www.regulations.gov under Docket ID FEMA-2012-0008. Follow the instructions for submitting comments.

(2) Mail. Submit written comments to Regulatory Affairs Division, Office of Chief Counsel, DHS/FEMA, 500 C Street, SW., Room 835, Washington, DC 20472-3100.

(3) Facsimile. Submit comments to (703) 483-2999.

(4) Email. Submit comments to FEMA-POLICY@dhs.gov. Include Docket ID FEMA-2012-0008 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Mark Whitney, Fire Program Specialist, United States Fire Administration, National Fire Data Center, (301) 447-1836 for additional information. You may contact the Records Management Division for copies of the proposed collection of information at facsimile number (202) 646-3347 or email address: FEMA-Information-Collections-Management@dhs.gov.

SUPPLEMENTARY INFORMATION: The National Commission on Fire Prevention and Control conducted a comprehensive study of the Nation's fire problem and recommended to Congress actions to mitigate the fire problem, reduce loss of life and property, and educate the public on fire protection and prevention. As a result of the study, Congress enacted Public Law 93-498, Federal Fire Prevention and Control Act of 1974, which establishes the U.S. Fire Administration to administer fire prevention and control programs, supplement existing programs of research, training, and education, and encourage new and improved programs and activities by State and local governments. Section 9(a) of the Act authorizes the Administrator, U.S. Fire Administration (USFA), to operate directly or through contracts or grants, an integrated, comprehensive method to select, analyze, publish, and disseminate information related to prevention, occurrence, control, and results of fires of all types.

Collection of Information

Title: National Fire Incident Reporting System (NFIRS) v5.0.

Type of Information Collection: Revision of a currently approved information collection.

OMB Number: OMB No. 1660-0069.

Form Titles and Numbers: The National Fire Incident Reporting System (NFIRS) v5.0.

Abstract: NFIRS provides a mechanism using standardized reporting methods to collect and analyze fire incident data at the Federal, State, and local levels. Data analysis helps local fire departments and States to focus on current problems, predict future problems in their communities, and measure whether their programs are working.

Affected Public: State, Local or Tribal Government.

Number of Respondents: 23,890.

Number of Responses: 29,970,120.

Estimated Total Annual Burden Hours: 13,704,900 hours.

Type of respondent | Form name/form number | Number of respondents | Number of responses per respondent | Total number of responses | Average burden per response (in hours) | Total annual burden (in hours)
State, Local, or Tribal Government | NFIRS Version 5.0 Modules 1-12 (Manual) | 230 | 1,304 | 299,920 | 68 minutes (1.13 hr) | 338,910
State, Local, or Tribal Government | NFIRS Version 5.0 Modules 1-12 (Electronic) | 22,770 | 1,303 | 29,669,310 | 27 min (0.45 hr) | 13,351,190
State, Local, or Tribal Government | NFA Program Manager Training | 30 | 1 | 30 | 48 hours | 1,440
State, Local, or Tribal Government | NFA Program Manager Orientation | 60 | 1 | 60 | 16 hours | 960
State, Local, or Tribal Government | NFIC Training Workshop | 100 | 1 | 100 | 16 hours | 1,600
State, Local, or Tribal Government | NFIC CD/on-site Orientation | 200 | 1 | 200 | 4 hours | 800
State, Local, or Tribal Government | Introduction to NFRIS Distance Learning | 500 | 1 | 500 | 20 hours | 10,000
Total |  | 23,890 |  | 29,970,120 |  | 13,704,900

Estimated Cost: The estimated annual operations and maintenance costs to respondents or recordkeepers resulting from the collection of information is $13,775,850. The estimated annual cost to the Federal Government is $2,794,252.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

John J. Jenkins, Jr.,
Acting Director, Records Management Division, Mission Support Bureau, Federal Emergency Management Agency, Department of Homeland Security.

[FR Doc. 2012-3055 Filed 2-9-12; 8:45 am]

BILLING CODE 9111-45-P